DEPARTMENT OF TRANSPORTATION

Federal Aviation Administration

14 CFR Part 39

[Docket No. FAA-2010-0804; Directorate Identifier 2010-NM-163-AD; Amendment 39-16420; AD 2010-18-07]

RIN 2120-AA64

Airworthiness Directives; Airbus Model A318, A319, A320, and A321 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

A special detailed inspection of A318/A319/A320/A321 elevators pre-modification 35515 was introduced under ALI (Airworthiness Limitations Items) task 552007 in the ALS (Airworthiness Limitations Section) part 2 * * * This ALI task has been introduced with an applicability defined at aeroplane modification level.

* * * * *

It has been reported that some elevators may have been moved from the aeroplane on which they were originally fitted to another aeroplane, * * *. Consequently, those elevators might not have been inspected within the applicable required time frame as per ALI task 552007 requirements.

* * * * *

The unsafe condition is structural failure of the elevators and consequent loss of control of the airplane. This AD requires actions that are intended to address the unsafe condition described in the MCAI.

DATES: This AD becomes effective September 9, 2010.

The Director of the Federal Register approved the incorporation by reference of certain publications listed in the AD as of September 9, 2010.

We must receive comments on this AD by October 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Discussion

The European Aviation Safety Agency (EASA), which is the Technical Agent for the Member States of the European Community, has issued EASA Airworthiness Directive 2010-0091, dated May 19, 2010 (referred to after this as “the MCAI”), to correct an unsafe condition for the specified products. The MCAI states:

A special detailed inspection of A318/A319/A320/A321 elevators pre-modification 35515 was introduced under ALI (Airworthiness Limitations Items) task 552007 in the ALS (Airworthiness Limitations Section) part 2 under ALI Document reference AI/SE-M4/95A.0252/96 at issue 7; approved by EASA on 07 February, 2006, and mandated by EASA AD 2006-0165 [which corresponds to FAA AD 2007-20-05, Amendment 39-15215 (72 FR 56262, October 3, 2007)]. This ALI task has been introduced with an applicability defined at aeroplane modification level.

A specific statement related to the interchangeable parts policy was introduced in issue 9 of the ALI Document approved by EASA on 21 May, 2007. This statement required to track interchangeable damage tolerant part movements between aeroplanes.

It has been reported that some elevators may have been moved from the aeroplane on which they were originally fitted to another aeroplane, and spare parts may have been installed without being traced with regard to the ALI Document requirements. Consequently, those elevators might not have been inspected within the applicable required time frame as per ALI task 552007 requirements.

For the reasons described above, this AD requires the identification of the elevators installed on the aeroplane to determine whether these elevators have been inspected within the applicable required time frame as per ALI task 552007. If this had not been done, this AD requires the accomplishment of that inspection and, depending on findings, associated corrective action(s).

The unsafe condition is structural failure of the elevators and consequent loss of control of the airplane. The corrective actions include a special detailed inspection (thermographic) of affected elevators for damage, including cracking, and repairing any damage or cracking found. You may obtain further information by examining the MCAI in the AD docket.

Relevant Service Information

Airbus has issued Service Bulletin A320-55A1040, dated January 11, 2010. Airbus has also issued A318/A319/A320/A321 Airworthiness Limitation Items (ALI) AI/SE-M4/95A.0252/96, Issue 09, dated November 2006; and Issue 10, dated October 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because some elevators may have been moved from one airplane to another without being traced, and consequently may not have been inspected in accordance with ALI task 552007. Elevators not inspected within the compliance time in ALI Task 552007 could fail. Failure of the elevators could result in reduced structural integrity of the airplane. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-0804; Directorate Identifier 2010-NM-163-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-18-07 Airbus: Amendment 39-16420. Docket No. FAA-2010-0804; Directorate Identifier 2010-NM-163-AD.

Effective Date

(a) This airworthiness directive (AD) becomes effective September 9, 2010.

Affected ADs

(b) None.

Applicability

(c) This AD applies to all Airbus Model A318-111, -112, -121, and -122 airplanes; A319-111, -112, -113, -114, -115, -131, -132, and -133 airplanes; Model A320-111, -211, -212, -214, -231, -232, and -233 airplanes; and Model A321-111, -112, -131, -211, -212, -213, -231, and -232 airplanes; certificated in any category.

Subject

(d) Air Transport Association (ATA) of America Code 55: Stabilizers.

Reason

(e) The mandatory continued airworthiness information (MCAI) states:

A special detailed inspection of A318/A319/A320/A321 elevators pre-modification 35515 was introduced under ALI (Airworthiness Limitations Items) task 552007 in the ALS (Airworthiness Limitations Section) part 2 * * * This ALI task has been introduced with an applicability defined at aeroplane modification level.

* * * * *

It has been reported that some elevators may have been moved from the aeroplane on which they were originally fitted to another aeroplane, * * *. Consequently, those elevators might not have been inspected within the applicable required time frame as per ALI task 552007 requirements.

* * * * *

The unsafe condition is structural failure of the elevators and consequent loss of control of the airplane.

Compliance

(f) You are responsible for having the actions required by this AD performed within the compliance times specified, unless the actions have already been done.

Actions

(g) Within 30 days after the effective date of this AD, inspect the left-hand (LH) and right-hand (RH) elevators to determine if the first twelve digits of the part number on the elevator are identified in Table 1 or Table 2 of this AD, in accordance with the Accomplishment Instructions of Airbus Service Bulletin A320-55A1040, dated January 11, 2010; and do the actions required by paragraphs (g)(1) and (g)(2) of this AD, as applicable. A review of airplane maintenance records is acceptable in lieu of this inspection if the part number of the elevators can be conclusively identified from that review.

(1) If any part number is identified in Table 1 of this AD: Within 30 days after the effective date of this AD, do the applicable determination specified in paragraph (g)(1)(i) or (g)(1)(ii) of this AD and compare it to the threshold for the next due inspection, as specified in Airbus ALI Task 552007-01-1 or 552007-01-3, which is defined in Airbus A318/A319/A320/A321 ALI AI/SE-M4/95A.0252/96, Issue 09, dated November 2006; or Issue 10, dated October 2009.

Table 1—Elevator Part Number
Part name | First twelve digits of part number only
LH Elevator | D55280001000.
RH Elevator | D55280001001.

(i) For elevators on which Airbus Service Bulletin A320-55-1024 has been done: If adequate records exist, determine the elapsed (calendar) time since the date of the first flight of the first airplane on which the elevator is installed after the actions in Airbus Service Bulletin A320-55-1024 were done on the elevator.

(ii) For elevators on which Airbus Service Bulletin A320-55-1024 has not been done: If adequate records exist, determine the elapsed (calendar) time since the date of the first flight of the first airplane on which the elevator is installed.

(2) If any part number is identified in Table 2 of this AD: Within 30 days after the effective date of this AD, if adequate records exist, determine the elapsed (calendar) time since the date of the first flight of the first airplane on which the elevator is installed and compare it to the threshold for the next due inspection, as specified in Airbus ALI Task 552007-01-2 or 552007-01-4, which is defined in Airbus A318/A319/A320/A321 ALI AI/SE-M4/95A.0252/96, Issue 09, dated November 2006; or Issue 10, dated October 2009.

Table 2—Elevator Part Number
Part name | First twelve digits of part number only
LH Elevator | D55280001002, D55280001004, D55280001008, D55280001010, or D55280001012.
RH Elevator | D55280001003, D55280001005, D55280001009, D55280001011 or D55280001013.

(h) If the elapsed time, determined as required by paragraph (g)(1) of this AD, has exceeded the ALI threshold for the next due inspection, as specified in Airbus ALI Task 552007-01-1 or 552007-01-3; or if unable to determine the elapsed time: Within 30 days after the effective date of this AD, perform a special detailed inspection for damage, including cracking, of the top and bottom skin panels of the affected elevators, in accordance with Airbus ALI Task 552007-01-1 or 552007-01-3, which is defined in Airbus A318/A319/A320/A321 ALI AI/SE-M4/95A.0252/96, Issue 09, dated November 2006; or Issue 10, dated October 2009. If any damage or cracking is found, before further flight, repair using a method approved by either the Manager, International Branch, ANM 116, Transport Airplane Directorate, FAA; or the European Aviation Safety Agency (EASA) (or its delegated agent).

(i) If the elapsed time, determined as required by paragraph (g)(1) of this AD, has not exceeded the ALI threshold for the next due inspection, as specified in Airbus ALI Task 552007-01-1 or 552007-01-3: Before reaching that threshold, or within 30 days after the effective date of this AD, whichever occurs later; perform a special detailed inspection for damage, including cracking, of the top and bottom skin panels of the affected elevators in accordance with Airbus ALI Task 552007-01-1 or 552007-01-3, which is defined in Airbus A318/A319/A320/A321 ALI AI/SE-M4/95A.0252/96, Issue 09, dated November 2006; or Issue 10, dated October 2009. If any damage or cracking is found before further flight repair using a method approved by either the Manager, International Branch, or EASA (or its delegated agent).

(j) If the elapsed time, determined as required by paragraph (g)(2) of this AD, has exceeded the ALI threshold for the next due inspection, as specified in Airbus ALI Task 552007-01-2 or 552007-01-4; or if unable to determine the elapsed time: Within 30 days after the effective date of this AD, perform a special detailed inspection for damage, including cracking, of the top and bottom skin panels of the affected elevators, in accordance with Airbus ALI Task 552007-01-2 or 552007-01-4, which is defined in Airbus A318/A319/A320/A321 ALI AI/SE-M4/95A.0252/96, Issue 09, dated November 2006; or Issue 10, dated October 2009. If any damage or cracking is found before further flight, repair using a method approved by either the Manager, International Branch, or the EASA (or its delegated agent).

(k) If the elapsed time, determined as required by paragraph (g)(2) of this AD has not exceeded the ALI threshold for the next due inspection, as specified in Airbus ALI Task 552007-01-2 or 552007-01-4: Before reaching that threshold, or within 30 days after the effective date of this AD, whichever occurs later; perform a special detailed inspection for damage, including cracking, of the top and bottom skin panels of the affected elevators, in accordance with Airbus ALI Task 552007-01-2 or 552007-01-4, which is defined in Airbus ALI AI/SE-M4/95A.0252/96, Issue 09, dated November 2006; or Issue 10, dated October 2009. If any damage or cracking is found before further flight, repair using a method approved by either the Manager, International Branch, or EASA (or its delegated agent).

(l) Accomplishment of the inspection and corrective actions required by paragraph (h), (i), (j), and (k) of this AD does not constitute terminating action for the repetitive inspections of Airbus ALI Task 552007, as defined in Airbus A318/A319/A320/A321 ALI AI/SE-M4/95A.0252/96, Issue 09 dated November 2006; or Issue 10, dated October 2009.

(m) As of the effective date of this AD, no person may install, on any airplane, any elevator having a part number identified in Table 1 or 2 of this AD, unless the actions required by paragraphs (g)(1) and (g)(2), of this AD, as applicable, have been done and the inspections and corrective actions required by paragraphs (h), (i), (j), and (k) of this AD have been done.

(n) As of the effective date of this AD, track all interchangeable damage tolerant part movements between airplanes, in accordance with the specific statement in the Section Rules for Compliance Demonstration, either in paragraph F., “Transferable Parts,” of the Airbus A318/A319/A320/A321 ALI AI/SE-M4/95A.0252/96, Issue 10, dated October 2009; or in sub-paragraph 10., “Interchangeable parts policy,” of Chapter 1.11, “General Rules,” of Airbus A318/A319/A320/A321 ALI AI/SE-M4/95A.0252/96, Issue 09, dated November 2006; or Issue 10, dated October 2009.

FAA AD Differences

Note 1: This AD differs from the MCAI and/or service information as follows: Although the MCAI or service information specifies to perform corrective actions using the instructions defined in Airbus ALI AI/SE-M4/95A.0252/96, Issue 09, dated November 2006; or Issue 10, dated October 2009; if any affected elevators are found, such corrective actions are not identified in the ALI tasks. Therefore, this AD requires that you perform all corrective actions before further flight using a method approved by either the Manager, International Branch, ANM 116, Transport Airplane Directorate, FAA; or the European Aviation Safety Agency (EASA) (or its delegated agent).

Other FAA AD Provisions

(o) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved; corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(p) Refer to MCAI EASA Airworthiness Directive 2010-0091, dated May 19, 2010; Airbus Service Bulletin A320-55A1040, dated January 11, 2010; and Airbus A318/A319/A320/A321 ALI AI/SE-M4/95A.0252/96, Issue 09, dated November 2006; and Issue 10, dated October 2009; for related information.

Material Incorporated by Reference

(q) You must use the applicable service information specified in Table 3 of this AD to do the actions required by this AD, unless the AD specifies otherwise.

Table 3—Material Incorporated by Reference
Document | Issue | Date
Airbus A318/A319/A320/A321 Airworthiness Limitations Items AI/SE-M4/95A.0252/96 | 09 | November 2006.
Airbus A318/A319/A320/A321 Airworthiness Limitations Items AI/SE-M4/95A.0252/96 | 10 | October 2009.
Airbus Service Bulletin A320-55A1040 | Original | January 11, 2010.

Airbus A318/A319/A320/A321 ALI AI/SE-M4/95A.0252/96, Issue 09, contains the following effective pages:

Page title/description | Page number(s) | Issue No. | Date shown on page(s)
List of Effective Pages:
ALI Title Page | None shown | 09 | November 2006.
Record of Revisions | 1-ROR through 3-ROR | 9 | November 2006.
Summary of Changes | 1-SOC through 2-SOC | 9 | November 2006.
List of Effective Pages | 1-LEP | 9 | November 2006.
Table of Contents | 1-TOC | 9 | November 2006.
Section 1—Introduction | 1—7 | 9 | November 2006.
Section 2—Airworthiness Limitation Items (ALI) | 1—61 | 09 | November 2006.

Airbus A318/A319/A320/A321 ALI AI/SE-M4/95A.0252/96, Issue 10 contains the following effective pages:

Page title/description | Page number(s) | Issue No. | Date shown on page(s)
List of Effective Pages:
ALI Title Page | None shown | 10 | October 2009.
Record of Revisions | 1-ROR through 4-ROR | None shown* | October 2009.
Table of Contents | 1-TOC | None shown* | October 2009.
Section 1—Introduction | 1-INTRO through 8-INTRO | None shown* | October 2009.
Section 2—Damage Tolerant Airworthiness Limitations List | 1—85 | None shown* | October 2009.
Appendix A—Summary of Changes | 1-APXA through 9-APXA | None shown* | October 2009.
Appendix B—Abbreviations | 1-APXB through 2-APXB | None shown* | October 2009.
Appendix C—Terms and Definitions | 1-APXC | None shown* | October 2009.
Appendix D—Reporting Form | 1-APXD | None shown* | October 2009.
Appendix E—Modifications List | 1-APXE through 2-APXE | None shown* | October 2009.
(*Only the title page of this document contains the issue level of the document.)

(1) The Director of the Federal Register approved the incorporation by reference of this service information under 5 U.S.C. 552(a) and 1 CFR part 51.

(2) For service information identified in this AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on August 13, 2010.
Ali Bahrami,
Manager, Transport Airplane Directorate, Aircraft Certification Service.

[FR Doc. 2010-21023 Filed 8-24-10; 8:45 am]

BILLING CODE 4910-13-P